DEPARTMENT OF TRANSPORTATION

Federal Aviation Administration

14 CFR Part 71

[Docket No. FAA-2021-0385; Airspace Docket No. 21-AGL-21]

RIN 2120-AA66

Amendment of Class D and Class E Airspace and Revocation of Class E Airspace; Columbus, OH

AGENCY: Federal Aviation Administration (FAA), DOT.

ACTION: Final rule.

SUMMARY: This action amends the Class D airspace and Class E airspace at Columbus, OH, and revokes the Class E airspace extending upward from 700 feet above the surface at Darby Dan Airport, Columbus, OH. This action is the result of an airspace review caused by the decommissioning of the Rickenbacker International Airport runway 5R middle marker and the cancellation of the instrument procedures at Darby Dan Airport. The name and geographic coordinates of the various airports are also being updated to coincide with the FAA's aeronautical database.

DATES: Effective 0901 UTC, October 7, 2021. The Director of the Federal Register approves this incorporation by reference action under 1 CFR part 51, subject to the annual revision of FAA Order 7400.11 and publication of conforming amendments.

ADDRESSES: FAA Order 7400.11E, Airspace Designations and Reporting Points, and subsequent amendments can be viewed online at https://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11E at NARA, email fr.inspection@nara.gov or go to https://www.archives.gov/federal-register/cfr/ibr-locations.html.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends the Class D airspace at Ohio State University Airport, Columbus, OH, and Rickenbacker International Airport, Columbus, OH, and the Class E airspace extending upward from 700 feet above the surface at John Glenn Columbus International Airport, Columbus, OH, and Rickenbacker International Airport, and revokes the Class E airspace extending upward from 700 feet above the surface at Darby Dan Airport, Columbus, OH, to support instrument flight rule operations at these airports.

History

The FAA published a notice of proposed rulemaking (NPRM) in the Federal Register (86 FR 28729; May 28, 2021) for Docket No. FAA-2021-0385 to amend the Class D airspace and Class E airspace at Columbus, OH, and revoke the Class E airspace extending upward from 700 feet above the surface at Darby Dan Airport, Columbus, OH. Interested parties were invited to participate in this rulemaking effort by submitting written comments on the proposal to the FAA. No comments were received.

Class D and E airspace designations are published in paragraph 5000 and 6005, respectively, of FAA Order 7400.11E, dated July 21, 2020, and effective September 15, 2020, which is incorporated by reference in 14 CFR 71.1. The Class D and E airspace designations listed in this document will be published subsequently in the order.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

Differences From the NPRM

Subsequent to publication of the NPRM, the FAA discovered a typographic error in the NPRM. The NPRM published the airport name of “Darby Dan Airport” as “Dan Darby Airport.” As the correction does not affect the airspace as proposed, it is incorporated into this rule.

The Rule

This amendment to 14 CFR part 71:

Amends the Class D airspace at Ohio State University Airport, Columbus Ohio by removing the name of the airport from the header of the airspace legal description to comply with changes to FAA Order 7400.2N, Procedures for Handling Airspace Matters; removes the city associated with the airport in the airspace legal description to comply with changes to FAA Order 7400.2N; updates the geographic coordinates of the airport to coincide with the FAA's aeronautical database; and replaces the outdated term “Airport/Facility Directory” with “Chart Supplement”;

Amends the Class D airspace to within a 4.6-mile (increased from a 4.5-mile) radius of Rickenbacker International Airport, Columbus, OH; removes the airport name from the header of the airspace legal description to comply with changes to FAA Order 7400.2N; and removes the city associated with the airport to comply with changes to FAA Order 7400.2N;

And amends the Class E airspace extending upward from 700 feet above the surface to within a 7.5-mile (increased from a 7-mile) radius of John Glenn Columbus International Airport, Columbus, OH; updates the name of John Glenn Columbus International Airport (previously Port Columbus International Airport) to coincide with the FAA's aeronautical database; removes the cities associated with the airports to comply with changes to FAA Order 7400.2N; within a 7.1-mile (increased from a 7-mile) radius of Rickenbacker International Airport; within 4 miles each side of the 045° bearing from Rickenbacker International Airport extending from the 7.1-mile (previously 7-mile) radius to 12.6 miles (increased from 12.5 miles) northeast of the Rickenbacker International Airport; updates the geographic coordinates of Ohio State University Airport to coincide with the FAA's aeronautical database; removes Darby Dan Airport, Columbus, OH, and the associated airspace as the instrument procedures at this airport have been cancelled and the airspace is no longer required; and removes the exclusionary language from the airspace legal description as it is not required.

This action is necessary due to airspace reviews caused by the decommissioning of the Rickenbacker International Airport runway 5R middle maker, which provided navigation information for the instrument procedures at this airport, and the cancellation of the instrument procedures at Darby Dan Airport, Columbus, OH.

FAA Order 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 5000 Class D Airspace.

* * * * *

AGL OH D Columbus, OH [Amended]

Ohio State University Airport, OH

(Lat. 40°04′46″ N, long. 83°04′24″ W)

That airspace extending upward from the surface to and including 3,400 feet MSL within a 4-mile radius of Ohio State University Airport, excluding that airspace within the Columbus, Port Columbus International Airport, OH, Class C airspace area. This Class D airspace area is effective during the specific dates and times established in advance by a Notice to Airmen. The effective dates and times will thereafter be continuously published in the Chart Supplement.

AGL OH D Columbus, OH [Amended]

Rickenbacker International Airport, OH

(Lat. 39°48′50″ N, long. 82°55′40″ W)

That airspace extending upward from the surface to and including 3,000 feet MSL within a 4.6-mile radius of Rickenbacker International Airport, excluding that airspace within the Columbus, Port Columbus International Airport, OH, Class C airspace area.

Paragraph 6005 Class E Airspace Areas Extending Upward From 700 Feet or More Above the Surface of the Earth.

* * * * *

AGL OH E5 Columbus, OH [Amended]

John Glenn Columbus International Airport, OH

(Lat. 39°59′49″ N, long. 82°53′32″ W)

Rickenbacker International Airport, OH

(Lat. 39°48′50″ N, long. 82°55′40″ W)

Ohio State University Airport, OH

(Lat. 40°04′46″ N, long. 83°04′24″ W)

Bolton Field Airport, OH

(Lat. 39°54′04″ N, long. 83°08′13″ W)

Fairfield County Airport, OH

(Lat. 39°45′20″ N, long. 82°39′26″ W)

That airspace extending upward from 700 feet above the surface within a 7.5-mile radius of John Glenn Columbus International Airport, and within 3.3 miles either side of the 094° bearing from John Glenn Columbus International Airport extending from the 7.5-mile radius to 12.1 miles east of the airport, and within a 7.1-mile radius of Rickenbacker International Airport, and within 4 miles either side of the 045° bearing from Rickenbacker International Airport extending from the 7.1-mile radius to 12.6 miles northeast of the airport, and within a 6.5-mile radius of Ohio State University Airport, and within a 7.4-mile radius of Bolton Field Airport, and within a 7-mile radius of Fairfield County Airport.

Issued in Fort Worth, Texas, on July 28, 2021.
Martin A. Skinner,
Acting Manager, Operations Support Group, ATO Central Service Center.

[FR Doc. 2021-16390 Filed 8-2-21; 8:45 am]

BILLING CODE 4910-13-P